DEPARTMENT OF TRANSPORTATION

Federal Aviation Administration

Notice of Intent To Rule on Application 03-02-C-00-LMT To Impose and Use the Revenue From a Passenger Facility Charge (PFC) at Klamath Falls Airport, Submitted by the City of Klamath Falls, Klamath Falls Airport, Klamath Falls, OR

AGENCY: Federal Aviation Administration (FAA), DOT.

ACTION: Notice of intent to rule on application.

SUMMARY: The FAA proposes to rule and invites public comment on the application to impose and use PFC revenue at Klamath Falls Airport under the provisions of 49 U.S.C. 40117 and Part 158 of the Federal Aviation Regulations (14 CFR 158).

DATES: Comments must be received on or before December 3, 2003.

ADDRESSES: Comments on this application may be mailed or delivered in triplicate to the FAA at the following address: Mr. J. Wade Bryant, Manager, Seattle Airports District Office, SEA-ADO; Federal Aviation Administration; 1601 Lind Avenue SW., Suite 250, Renton, Washington 98055-4056.

In addition, one copy of any comments submitted to the FAA must be mailed or delivered to Mr. Harold Wight, Airport Director, at the following address: 6775 Arnold Avenue, Klamath Falls, Oregon 97603.

Air Carriers and foreign air carriers may submit copies of written comments previously provided to Klamath Falls Airport, under section 158.23 of Part 158.

FOR FURTHER INFORMATION CONTACT: Ms. Suzanne Lee-Pang, (425) 227-2654, Seattle Airports District Office, SEA-ADO; Federal Aviation Administration; 1601 Lind Avenue SW., Suite 250, Renton, Washington 98055-4056. The application may be reviewed in person at this same location.

SUPPLEMENTARY INFORMATION: The FAA proposes to rule and invites public comment on the application 03-02-C-00-LMT to impose and use PFC revenue at Klamath Falls Airport, under the provisions of 49 U.S.C. 40117 and Part 158 of the Federal Aviation Regulations (14 CFR part 158).

On October 22, 2003, the FAA determined that the regulation to impose and use the revenue from a PFC submitted by City of Klamath Falls, Klamath Falls Airport, Klamath Falls, Oregon was substantially complete within the requirements of section 158.25 of Part 158. The FAA will approve or disapprove the application, in whole or in part, no later than February 4, 2004.

The following is a brief overview of the application.

Level of the proposed PFC: $4.50.

Proposed charge effective date: August 1, 2004.

Proposed charge expiration date: December 1, 2011.

Total requested for use approval: $877,799.

Brief description of proposed project: Runway Safety Area Design and Construction; Construct Northwest Apron; Master Plan; Parking Expansion; Security Fencing; Security Enhancement Equipment; Rehabilitation of West Side Apron, including Associated Taxiway.

Class or classes of air carriers which the public agency has requested not be required to collect PFC's: None.

Any person may inspect the application in person at the FAA office listed above under FOR FURTHER INFORMATION CONTACT and at the FAA Regional Airports Office located at: Federal Aviation Administration, Northwest Mountain Region, Airports Division, ANM-600, 1601 Lind Avenue SW., Suite 315, Renton, WA 98055-4056.

In addition, any person may, upon request, inspect the application, notice and other documents germane to the application in person at the Klamath Falls Airport.

Issued in Renton, Washington on October 22, 2003.
Carolyn T. Read,
Acting Manager, Planning, Programming and Capacity Branch, Northwest Mountain Region.

[FR Doc. 03-27510 Filed 10-31-03; 8:45 am]

BILLING CODE 4910-13-M